DEPARTMENT OF THE INTERIOR

National Park Service

Notice of Inventory Completion: Phoebe A. Hearst Museum of Anthropology, University of California, Berkeley, Berkeley, CA, and U.S. Department of the Interior, Bureau of Indian Affairs, Washington, DC

AGENCY: National Park Service, Interior.

ACTION: Notice.

Notice is here given in accordance with the Native American Graves Protection and Repatriation Act (NAGPRA), 25 U.S.C. 3003, of the completion of an inventory of human remains and associated funerary objects in the possession of the Phoebe A. Hearst Museum of Anthropology, University of California, Berkeley, Berkeley, CA, and in the control of the U.S. Department of the Interior, Bureau of Indian Affairs, Washington, DC. The human remains and associated funerary objects were removed from the tribal lands of the Navajo Nation, Arizona, Utah, & New Mexico, Apache County, AZ.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

An assessment of the human remains, and catalog records and associated documents relevant to the human remains, was made by Phoebe A. Hearst Museum of Anthropology professional staff in consultation with representatives of the Navajo Nation, Arizona, Utah, and New Mexico.

In 1924, human remains representing at least two individuals were removed from the “West bank of Pueblo Colorado Wash,” in the Cornfields District, Apache County, AZ, by Albert B. Reagan, who donated the human remains to the Phoebe Hearst Museum of Anthropology in the same year. No known individuals were identified. The one associated funerary object is a cotton cloth fragment.

Based on museum records that identify the human remains as a “partial Navajo skeleton” and the geographical location of the burials, the human remains are determined to be Native American. The presence of an associated funerary object of European origin dates the burials to a post-European contact time period. Consultation evidence indicates that the region was inhabited by Navajo culture groups at the time of European contact. The current descendants are the Navajo Nation, Arizona, Utah, and New Mexico. The west bank of Pueblo Colorado Wash, Cornfields District, Apache County, AZ, is within the exterior boundaries of the tribal lands of the Navajo Nation, Arizona, Utah, and New Mexico.

Officials of the U.S. Department of the Interior, Bureau of Indian Affairs and the Phoebe A. Hearst Museum of Anthropology have determined that, pursuant to 25 U.S.C. 3001 (9-10), the human remains described above represent the physical remains of at least two individuals of Native American ancestry. Officials of the U.S. Department of the Interior, Bureau of Indian Affairs and the Phoebe A. Hearst Museum of Anthropology also havae determined that, pursuant to 25 U.S.C. 3001(3)(A), the one object described above is reasonably believed to have been placed with or near individual human remains at the time of death or later as part of the death rite or ceremony. Lastly, officials of the U.S. Department of the Interior, Bureau of Indian Affairs and the Phoebe A. Hearst Museum of Anthropology have determined that, pursuant to 25 U.S.C. 3001 (2), there is a relationship of shared group identity that can be reasonably traced between the Native American human remains and associated funerary object and the Navajo Nation, Arizona, Utah, and New Mexico.

Representatives of any other Indian tribe that believes itself to be culturally affiliated with the human remains and associated funerary object should contact C. Richard Hitchcock, NAGPRA Coordinator, Phoebe A. Hearst Museum of Anthropology, University of California, Berkeley, Berkeley, CA 94720, telephone (510) 642-6096, before September 22, 2003. Repatriation of the human remains and associated funerary object to the Navajo Nation, Arizona, Utah, and New Mexico may proceed after that date if no additional claimants come forward.

The Phoebe A. Hearst Museum of Anthropology is responsible for notifying the Navajo Nation, Arizona, Utah, and New Mexico that this notice has been published.

Dated: July 8, 2003.
John Robbins,
Assistant Director, Cultural Resources.

[FR Doc. 03-21390 Filed 8-20-03; 8:45 am]

BILLING CODE 4312-50-M